DEPARTMENT OF JUSTICE

Notice of Lodging of Proposed Consent Decree Under the Clean Water Act

On December 20, 2017, the Department of Justice lodged a proposed Consent Decree with the United States District Court for the Eastern District of Pennsylvania in the lawsuit entitled United States and Commonwealth of Pennsylvania Department of Environmental Protection (PADEP) v. City of Lancaster, Pennsylvania, Civil Action No. 17-cv-5684. In a civil action filed on December 19, 2017, under Section 309(d) of the Clean Water Act and the Pennsylvania Clean Streams Law, Act of June 22, 1987, P.S. 1937, as amended, 35 P.S. §§ 691.1-691.1001, the United States, on behalf of the Environmental Protection Agency, and PADEP alleged that Lancaster violated its National Pollutant Discharge Elimination System (“NPDES”) permit and the Clean Water Act and Pennsylvania Clean Streams Law by failing to develop and implement an adequate Long Term Control Plan (“LTCP”), violating effluent limits, failing to comply with the Nine Minimum Control Requirements, and discharging sanitary sewer overflows. In the Complaint, the United States and PADEP sought injunctive relief and penalties.

The proposed Consent Decree resolves the claims alleged in the Complaint, and requires the City to take specified actions designed to achieve compliance with the Clean Water Act, Clean Streams Law, and the City's NPDES Permit. The proposed Consent Decree requires the City to submit an Amended Long Term Control Plan in accordance with the schedules contained in the Decree. In addition, City must pay a civil penalty of $135,000, to be split equally between the United States and PADEP, and the City must complete a Supplemental Environmental Project designed to improve water quality in the Conestoga River. The SEP involves daylighting a stream in the City of Lancaster, identified as Groff's Run.23.

The publication of this notice opens a period for public comment on the Consent Decree. Please address comments to the Assistant Attorney General, Environment and Natural Resources Division and refer to United States and Commonwealth of Pennsylvania Department of Environmental Protection v. City of Lancaster, DJ. Ref. No. 90-5-1-1-11135. All comments must be submitted no later than thirty (30) days after the publication date of this notice. Comments may be submitted either by email or by mail:

To submit comments: | Send them to:
By email | pubcomment-ees.enrd@usdoj.gov.
By mail | Assistant Attorney General, U.S. DOJ-ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ-ENRD, P.O. Box 7611, Washington, DC 20044-7611.

Please enclose a check or money order for $23.25 (25 cents per page reproduction cost) payable to the United States Treasury.

Robert Brook,
Assistant Section Chief, Environmental Enforcement Section, Environment and Natural Resources Division.

[FR Doc. 2017-27816 Filed 12-26-17; 8:45 am]

BILLING CODE 4410-15-P